DEPARTMENT OF EDUCATION

National Assessment Governing Board

Solicitation of Public Comments for Updating the Science Assessment Framework for the 2028 National Assessment of Educational Progress

AGENCY: National Assessment Governing Board, U.S. Department of Education.

ACTION: Notice of opportunity for public comment on working draft of the Science Assessment Framework for the 2028 National Assessment of Educational Progress (NAEP).

SUMMARY: The National Assessment Governing Board (Governing Board) is soliciting public comment for input on proposed recommendations for updating the Assessment Framework for the 2028 National Assessment of Educational Progress (NAEP) in Science.

SUPPLEMENTARY INFORMATION: The Governing Board is authorized to formulate policy guidelines for NAEP. Section 302(e)(1)(c) of Public Law 107-279 specifies that the Governing Board determines the content to be assessed for each NAEP Assessment. Each NAEP subject area assessment is guided by a framework that defines the scope of the domain to be measured by delineating the knowledge and skills to be tested at each grade and subject, the format of the assessment, and the achievement level descriptions—guiding assessments that are valid, reliable, and reflective of widely accepted professional standards. The NAEP Science Assessment Framework was last revised in 2005 for use in 2009. In accordance with the Board policy on Assessment Framework Development for NAEP, panels of science experts representing many different stakeholder groups have provided recommendations for updating the NAEP Science Assessment Framework. Public feedback is being sought on a working draft of the 2028 NAEP Science Assessment Framework that was produced by the Science Framework Development Panel. Comments received in response to this notice will be utilized to inform Governing Board decisions on the NAEP Science Assessment Framework. Governing Board action on a revised science framework that incorporates feedback received during public comment is anticipated at the November 2023 Board meeting.

This notice sets forth the review schedule and provides information for accessing additional materials that will be informative and necessary for this review.

By engaging NAEP's audiences, partners, and stakeholders in the panels that provide recommendations for NAEP frameworks and by seeking public comment, NAEP frameworks reflect content valued by the public as important to measure. Additional information on the Governing Board's work in developing NAEP assessment frameworks and Specifications can be found at https://www.nagb.gov/naep-frameworks/frameworks-overview.html.

All responses will be taken into consideration before finalizing the recommendations for updating the NAEP Science Assessment Framework. Once finalized, the updated NAEP Science Assessment Framework will be used to guide what is tested on the NAEP Science Assessment in 2028 and beyond.

Feedback shall be submitted via the project website (www.naepframeworkupdate.org) no later than 11:59 p.m. Eastern Time on Monday, April 17. It is anticipated that public comments will be shared and discussed publicly in upcoming Governing Board meetings and materials. When providing comment, please indicate if you are not comfortable with your name and affiliation being included with the comments that may be shared publicly by the Governing Board in its deliberations.

Additional information (including the materials referenced below) can be found on the project website at www.naepframeworkupdate.org.

Existing Science Framework for the NAEP

The existing framework (adopted in 2005) can be downloaded from the Governing Board website at: https://www.nagb.gov/naep-subject-areas/science.html.

Governing Board's Periodic Review and Updating of NAEP Frameworks

Governing Board policy articulates the Board's commitment to a comprehensive, inclusive, and deliberative process to determine and update the content and format of all NAEP assessments. For each NAEP assessment, this process results in a NAEP framework, outlining what is to be measured and how it will be measured. Periodically, the Governing Board reviews existing NAEP frameworks to determine if changes are warranted. Each NAEP framework development and update process considers a wide set of factors, including but not limited to reviews of recent research on teaching and learning, changes in state and local standards and assessments, and the latest perspectives on the nation's future needs and desirable levels of achievement.

In 2021, the Board initiated a preliminary review of the NAEP Science Framework, which included an initial public comment on whether and how the framework should be updated as well as expert commentary to determine the type of updates needed. In May 2022, the Governing Board formally decided to initiate an update to the NAEP Science Framework and issued a Board Charge providing guidance to the panels of experts who were tasked with developing the framework recommendations.

Electronic Access to This Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, Title III—National Assessment of Educational Progress § 301.

Lesley Muldoon,
Executive Director, National Assessment Governing Board (NAGB), U.S. Department of Education.

[FR Doc. 2023-05338 Filed 3-15-23; 8:45 am]

BILLING CODE 4000-01-P